NATIONAL SCIENCE FOUNDATION

Sunshine Act Meetings

The National Science Board (NSB) hereby gives notice of the scheduling of meetings for the transaction of NSB business as follows:

TIME AND DATE: Tuesday, May 18, 2021, from 11:00 a.m. to 6:15 p.m., and Wednesday, May 19, 2021, from 11:00 a.m. to 6:05 p.m. EDT.

PLACE: These meetings will be held by videoconference. There will be no in-person meetings. The public may observe the public meetings, which will be streamed to the NSF You Tube channel. For meetings on Tuesday, May 18, go to: https://www.youtube.com/watch?v=-tvEDxgN9uU. For meetings on Wednesday, May 19, go to: https://www.youtube.com/watch?v=9d9vYPNPNLE.

STATUS: Parts of these meetings will be open to the public. The rest of the meetings will be closed to the public. See full description below.

MATTERS TO BE CONSIDERED:

Tuesday, May 18, 2021

Plenary Board Meeting

Open Session: 11:00 a.m.-12:00 p.m.

• NSB Chair's Remarks

• NSF Director's Remarks

• NSB Chair Activity Summary

• Nominations Update

• Women, Minorities and Persons with Disabilities Report

Committee on Strategy (CS)

Open Session: 12:00 p.m.-12:20 p.m.

• Committee Chair's Remarks

• Approval of Prior Minutes

• FY 2021 Current Plan and FY 2022 Budget Update

Committee on Strategy (CS)

Closed Session: 12:30 p.m.-1:35 p.m.

• Committee Chair's Remarks

• Approval of Prior Minutes

• NSF COVID-19 Recovery Update

• FY 2021 Current Plan and FY 2022 Budget Request Development

• NSF Strategic Plan 2022-2026

Committee on Awards and Facilities (A&F)

Closed Session: 1:35 p.m.-4:30 p.m.

• Committee Chair's Remarks

• Approval of Prior Minutes

• Information Item: NSF Strategy for Managing COVID-19 Impacts Across Facilities

• Action Item: National Ecological Observatory Network (NEON) Initial Operations Award Extension

• Context Item: Rubin Observatory Management Reserve

• Context Item: Arecibo Observatory Clean-Up Costs

• Information Item: SAGE/GAGE Future Directions

Plenary Board Meeting

Open Session: 4:45 p.m.-6:15 p.m.

• Celebrating Science and Public Service with the 2021 Waterman, Bush, and Public Service Award Winners

Wednesday, May 19, 2021

Plenary Board Meeting

Open Session: 11:00 a.m.-12:15 p.m.

• Panel Discussion: Lessons from Minority Serving Institutions

• Vision 2030 Implementation Working Group Update

Committee on External Engagement (EE)

Open Session: 12:15 p.m.-12:50 p.m.

• Committee Chair's Remarks

• Approval of Prior Minutes

• Congressional Plan

• Media Plan

• External Panel Series

• NSB 2022 Honorary Awards Nominations

Committee on Oversight (CO)

Open Session: 1:00 p.m.-1:40 p.m.

• Committee Chair's Remarks

• Approval of Committee Minutes

• Review of the Office of the Inspector General Semiannual Report and NSF Management Response

• Inspector General's Update

• Chief Financial Officer's Update

Committee on Awards and Facilities (A&F)

Open Session: 1:40 p.m.-2:00 p.m.

• Committee Chair's Remarks

• Approval of Prior Minutes

• Rolling Calendar of Schedule of Planned Action and Context Items

• Action Item: Gemini Observatory Spending Cap Increase

Committee on National Science and Engineering Policy (SEP)

Open Session: 2:45 p.m.-3:25 p.m.

• Committee Chair's Remarks

• Approval of Prior Minutes

• Update on Indicators 2022

• Demonstration of State Indicators Website and Update on SEI 2022 Cover Selection

• Update on Policy Products

Plenary Board

Closed Session: 3:35 p.m.-4:05 p.m.

• NSB Chair's Remarks

• Approval of Prior Minutes

• Director's Remarks

• Closed Committee Reports

• Vote: Mid-Scale Research Infrastructure-2 Awards

• Vote: NEON Operations & Maintenance Award

Plenary Board

Executive Closed Session: 4:05 p.m.-5:05 p.m.

• NSB Chair's Remarks

• Approval of Prior Minutes

• NSF Director's Discussion

○ Personnel Updates

• Future Directions in Translation, Innovation and Partnerships

• Alan T. Waterman Award Management Update

• Election of Two Executive Committee Members

Plenary Board

Open Session: 5:15 p.m.-6:05 p.m.

• NSB Chair's Remarks

• Approval of Prior Minutes

• NSF Director's Remarks

Senior Staff Updates

Office of Legislative and Public Affairs Update

• EPSCoR Update

• Open Committee Reports

• Votes:

Resolution: Gemini Spending Cap Increase

OIG Semiannual Report and NSF Management Response

Executive Committee Annual Report

Meeting Adjourns: 6:05 p.m.

MEETINGS THAT ARE OPEN TO THE PUBLIC:

Tuesday, May 18, 2021

11:00 a.m.-12:00 p.m. Plenary NSB

12:00 p.m.-12:20 p.m. CS

4:45 p.m.-6:15 p.m. Plenary NSB

Wednesday, May 19, 2021

11:00 a.m.-12:15 p.m. Plenary NSB

12:15 p.m.-12:50 p.m. EE

1:00 p.m.-1:40 p.m. CO

1:40 p.m. -2:00 p.m. A&F

2:45 p.m.-3:25 p.m. SEP

5:15 p.m.-6:05 p.m. Plenary

MEETINGS THAT ARE CLOSED TO THE PUBLIC:

Tuesday, May 18, 2021

12:30 p.m.-1:35 p.m. CS

1:35 p.m.-4:30 p.m. A&F

May 19, 2021

3:35 p.m.-4:05 p.m. Plenary

4:05 p.m.-5:05 p.m. Plenary Executive

CONTACT PERSONS FOR MORE INFORMATION: The NSB Office contact is Chris Blair, cblair@nsf.gov, 703-292-7000. The NSB Public Affairs contact is Nadine Lymn, nlymn@nsf.gov, 703-292-2490. The following persons will be available to provide technical support in accessing the YouTube video: Angel Ntumy (antumy@associates.nsf.gov); Phillip Moulden (pmoulden@associates.nsf.gov).

Supplemental Information: All open sessions of the meeting will be webcast live. The Zoom feed will be broadcast on the NSB YouTube channel at: Please feel free to share this link with your colleagues:

Tuesday, May 18— https://www.youtube.com/watch?v=-tvEDxgN9uU

Wednesday, May 19— https://www.youtube.com/watch?v=9d9vYPNPNLE

Please refer to the NSB website for additional information. You will find any updated meeting information and schedule updates (time, place, subject matter, or status of meeting) at https://www.nsf.gov/nsb/meetings/notices.jsp.

Members of the public are advised that the NSB provides some flexibility around meeting times. A meeting may be allowed to run over by as much as 15 minutes if the Chair decides the extra time is warranted. The next meeting will start no later than 15 minutes after the noticed start time. If a meeting ends early, the next meeting may start up to 15 minutes earlier than the noticed start time. NSB and committee meetings will not vary from noticed times by more than 15 minutes. Open meetings can also be watched in their entirety later through the YouTube link.

Chris Blair,
Executive Assistant to the National Science Board Office.

[FR Doc. 2021-10279 Filed 5-12-21; 11:15 am]

BILLING CODE 7555-01-P